DEPARTMENT OF COMMERCE

Foreign-Trade Zones Board

[Docket 44-2001]

Foreign-Trade Zone 49—Newark/Elizabeth, NJ, Application for Subzone, Movado Group, Inc., (Watches; Certain Consumer Goods), Moonachie, NJ

An application has been submitted to the Foreign-Trade Zones Board (the Board) by the Port Authority of New York and New Jersey, grantee of FTZ 49, requesting special-purpose subzone status for the watch and consumer goods warehousing/distribution/repair facility of the Movado Group, Inc., (Movado), in Moonachie, New Jersey. The application was submitted pursuant to the provisions of the Foreign-Trade Zones Act, as amended (19 U.S.C. 81a-81u), and the regulations of the Board (15 CFR part 400). It was formally filed on October 31, 2001.

The Movado Group, Inc. (100,000 sq. ft. on 4.5 acres) is located at 105 State Street in Moonachie, New Jersey. The facilities (285 employees) are used primarily for storage, inspection, repair, packaging and distribution of wristwatches and clocks and watch parts. The company also distributes a variety of other consumer goods, including the following: writing instruments, sunglasses, steel and silver gifting items, silverware, jewelry, glassware, apparel and clothing accessories, tableware and other household articles, shaving preparations and other toiletries, and perfumes and toilet waters. Almost all of the products are sourced from abroad and some 5 percent are currently exported.

Zone procedures would exempt Movado from Customs duty payments on foreign products that are reexported. On domestic sales, the company would be able to defer payments until merchandise is shipped from the facility. The application indicates that the savings from zone procedures will help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade Zones Board, U.S. Department of Commerce, Franklin Court Building—Suite 4100W, 1099 14th St., NW., Washington, DC 20005; or

2. Submissions Via the U.S. Postal Service: Foreign-Trade Zones Board, U.S. Department of Commerce, FCB—Suite 4100W, 1401 Constitution Ave. NW., Washington, DC 20230.

The closing period for their receipt is January 7, 2002. Rebuttal comments in response to material submitted during the foregoing period may be submitted during the subsequent 15-day period (to January 22, 2002).

A copy of the application and accompanying exhibits will be available for public inspection at the Office of the Foreign-Trade Zones Board's Executive Secretary at the first address listed above, and at the U.S. Department of Commerce Export Assistance Center, One Gateway Center, 9th Floor, Newark, NJ 07102.

Dated: October 31, 2001.
Dennis Puccinelli,
Executive Secretary.

[FR Doc. 01-27979 Filed 11-6-01; 8:45 am]

BILLING CODE 3510-DS-P